DEPARTMENT OF HEALTH AND HUMAN SERVICES

National Institutes of Health

National Institute on Aging; Amended Notice of Meeting

Notice is hereby given of a change in the meeting of the National Advisory Council on Aging, May 21, 2019, 3:00 p.m. to May 22, 2019, 12:45 p.m., National Institutes of Health, Building 60, Lecture Hall, One Cloister Court, Bethesda, MD 20892 which was published in the Federal Register on February 15, 2019, 84 FR 4504.

The meeting notice is amended to change the previously listed incorrect institution name from NATIONAL INSTITUTE OF GENERAL MEDICAL SCIENCES to NATIONAL INSTITUTE ON AGING. The meeting is partially Closed to the public.

Dated: May 1, 2019.
Melanie J. Pantoja,
Program Analyst, Office of Federal Advisory Committee Policy.

[FR Doc. 2019-09199 Filed 5-3-19; 8:45 am]

BILLING CODE 4140-01-P